DEPARTMENT OF TRANSPORTATION

Coast Guard

33 CFR Part 117

[CGD13-01-024]

Drawbridge Operations Regulations; Duwamish Waterway, WA

AGENCY: Coast Guard, DOT.

ACTION: Notice of temporary deviation from regulations.

SUMMARY: The Commander, Thirteenth Coast Guard District has issued a temporary deviation from the regulations governing the operation of the dual First Avenue South Drawbridges across the Duwamish Waterway, mile 2.5, at Seattle, Washington. This deviation allows the Washington Department of Transportation (WSDOT) to close the bascule span from 12:01 a.m. on October 6 to 12:01 a.m. on October 7, 2001. Presently, the dual bascule need not open between the hours of 6 a.m. and 9 p.m. and from 3 p.m. to 6 p.m. Monday through Friday, except federal holidays. Openings are provided at any time for vessels of at least 5000 gross tons, vessels towing such vessels, or vessels enroute to tow such vessels. This deviation allows the bridge owner to repair a leaking hydraulic cylinder at one of the center locks.

EFFECTIVE DATE: This deviation is effective from 12:01 a.m. on October 6 to 12:01 a.m. on October 7, 2001.

ADDRESSES: Unless otherwise noted, documents referred to in this notice are available for inspection and copying at Commander (oan), Thirteenth Coast Guard District, 915 Second Avenue, Seattle, Washington 98174-1067,room 3510 between 7:45 a.m. and 4:15 p.m., Monday through Friday, except federal holidays. The Bridge Section of the Aids to Navigation and Waterways Management Branch maintain the docket for this temporary deviation.

FOR FURTHER INFORMATION CONTACT: Austin Pratt, Chief, Bridge Section, Aids to Navigation and Waterways Management Branch, Telephone (206) 220-7282.

SUPPLEMENTARY INFORMATION: The First Avenue South Drawbridges across the Duwamish Waterway, mile 2.5, at Seattle, Washington, provide 32 feet of vertical clearance above Mean High Water for the central 100 feet horizontally. Navigation on the waterway include tugs, large container barges, construction equipment, and recreational vessels. First Avenue South is a major commuter route Monday through Friday. The weekend was selected for the work because the large vessel traffic and road vehicle passage is reduced from normal weekday frequencies. The leaking cylinder for one of the cylinders will be replaced during this closure to prevent spillage in the waterway and maintain the span in operational condition. The center lock was probably damaged in the earthquake that occurred in Seattle on February 28, 2001.

This temporary deviation, authorized under 33 CFR 117.35, allows the dual First Avenue South drawspans to remain closed from 12:01 a.m. on October 6 to 12:01 a.m. on October 7, 2001.

Dated: September 25, 2001.
Erroll Brown,
Rear Admiral, U.S. Coast Guard, Commander, Thirteenth Coast Guard District.

[FR Doc. 01-25281 Filed 10-5-01; 8:45 am]

BILLING CODE 4910-15-U